DEPARTMENT OF TRANSPORTATION

Federal Aviation Administration

Public Notice for a Change in Use of Aeronautical Property at Bradford Regional Airport, Lewis Run, PA

AGENCY: Federal Aviation Administration (FAA), DOT.

ACTION: Request for Public Comment.

SUMMARY: The Federal Aviation Administration is requesting public comment on the Bradford Regional Airport Authority's request to change a portion (23.48 Acres) of airport property from aeronautical use to non-aeronautical use.

The parcel is located between the airfield and the existing airport Access Road approximately 1150 feet north of the intersection with PA Route 59. The property is currently aeronautical use used to protect the FAR Part 77 Transition Surface airspace. The tract currently consists of vacant and semi-forested land located roughly abeam and southeast of the Runway 05 threshold, and southwest of the existing terminal complex. The requested release is for the purpose of permitting the Airport Owner to sell and convey title of 23.48 Acres for use as a Pennsylvania National Guard Stryker Brigade Combat Readiness Center.

Documents reflecting the Sponsor's request are available, by appointment only, for inspection at the Airport Managers office and the FAA Harrisburg Airport District Office.

DATES: Comments must be received on or before March 2, 2006.

ADDRESSES: Documents are available for review at the Airport Manager's office: Mr. Tom Frungillo, Manager, Bradford Regional Airport, 212 Airport Road, Suite E, Lewis Run, PA 16738. (814) 368-5928 and at the FAA Harrisburg Airports District Office: Mr. James M. Fels, Sr. Planner, Harrisburg Airports District Office, 3905 Hartzdale Dr., Suite 508, Camp Hill, PA 17011. (717) 730-2830.

FOR FURTHER INFORMATION CONTACT: James M. Fels, Sr. Planner, Harrisburg Airports District Office location listed above.

SUPPLEMENTARY INFORMATION: The parcel is located between the airfield and the existing airport Access Road approximately 1150 feet north of the intersection with PA Route 59.

Proposed Meets & Bounds Description

National Guard Parcel at Bradford Regional Airport

Beginning at a concrete monument, said monument also being the northwest corner of a parcel of ground belonging to now or formerly Cole;

Thence by the land of Cole, N 89°02′45″ E, 26.92 feet to a set ⅝″ rebar the true point of beginning for this parcel;

Thence through land that this was once a part of the following four courses and distances; N 44°26′45″ E, 1695.02 feet to a set ⅝″ rebar;

Thence S 45°38′17″ E, 521.84 feet to a set ⅝″ rebar, said point being on the westerly edge of a 50 foot right-of-way, said right-of-way leading up to the airport terminal from LR 42006 (Rt. 59);

Thence by a curve to the left an arc distance of 866.80 feet to a set ⅝″ rebar, said curve having central angle of 82°56′36″ and a radius of 598.77 feet;

Thence continuing by said right-of-way, S 45°22′21″ E, 37.97 feet to a set ⅝″ rebar;

Thence by land of the Bradford Regional Airport and lands now or formerly Cole, S 89°02′45″ W, 1641.19 feet to the point and place of beginning, passing over a concrete monument at 48.85′. Said Parcel containing 23.48 acres more or less. Excepting and reserving a 15-foot utility easement along the westerly edge of the road right-of-way, being the easterly boundary of this parcel; for maintenance, repair and or replacement of utilities located within said right-of-way.

Said property also subject to an easement prohibiting construction on the area abutting the northeasterly property line and extending southwesterly, 500 feet distant from and parallel with the aforesaid runway center line to a point 300′ beyond the end of said runway.

The property is currently aeronautical use used to protect the FAR Part 77 Transition Surface airspace. The parcel was acquired without Federal participation. The requested release is for the purpose of permitting the Sponsor to sell and convey title of the subject 23.48 Acres for use as a Pennsylvania National Guard Stryker Brigade Combat Readiness Center. The proceeds from the sale of property are to be used for the capital and operating costs of the airport.

Interested persons are invited to comment on the proposed release from obligations. All comments will be considered by the FAA to the extent practicable.

Issued in Camp Hill, Pennsylvania, January 10, 2006.
Wayne T. Heibeck,
Manager, Harrisburg Airports District Office.

[FR Doc. 06-862 Filed 1-30-06; 8:45 am]

BILLING CODE 4910-13-M